DEPARTMENT OF THE INTERIOR

National Park Service

Notice of Inventory Completion for Native American Human Remains and Associated Funerary Objects in the Possession of the Anthropological Studies Center, Archaeological Collections Facility, Sonoma State University, Rohnert Park, CA

AGENCY: National Park Service, Interior.

ACTION: Notice.

Notice is hereby given in accordance with provisions of the Native American Graves Protection and Repatriation Act (NAGPRA), 43 CFR 10.9, of the completion of an inventory of human remains and associated funerary objects in the possession of the Anthropological Studies Center (ASC), Archaeological Collections Facility (ACF), Sonoma State University, Rohnert Park, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by ASC professional staff in consultation with representatives of the Elem Indian Colony of Pomo Indians of the Sulphur Bank Rancheria, California; the Middletown Rancheria of Pomo Indians of California; and the Scotts Valley Band of Pomo Indians of California.

In 1973, human remains representing a minimum of two individuals were removed from the Garner Island site (CA-LAK-28) during unauthorized excavations and donated to the ACF by Don Branscomb, an amateur archeologist. No known individuals were identified. No associated funerary objects are present.

In 1974, human remains representing a minimum of 23 individuals were removed from the Garner Island site (CA-LAK-28) during unauthorized excavations and donated to the ACF by Don Branscomb, an amateur archeologist. No known individuals were identified. No associated funerary objects are present.

Based on archeological records, these human remains have been identified as Native American from the pre-contact period. Based on surface evidence, the Garner Island site (CA-LAK-28) has been identified as a habitation site occupied during pre-contact times.

In 1974, human remains representing a minimum of three individuals were removed from the Slater Island site (CA-LAK-30) during unauthorized excavations and donated to the ACF by Don Branscomb, an amateur archeologist. No known individuals were identified. No associated funerary objects are present.

Based on archeological records, these human remains have been identified as Native American from the pre-contact period. Based on surface evidence, the Slater Island site (CA-LAK-30) has been identified as a habitation site occupied during pre-contact times.

In 1974, human remains representing a minimum of three individuals were removed from site CA-LAK-159 during unauthorized excavations and donated to the ACF by Don Branscomb, an amateur archeologist. No known individuals were identified. No associated funerary objects are present.

Based on archeological records, these human remains have been identified as Native American from the pre-contact period.

In 1973 and 1974, human remains representing a minimum of 34 individuals were excavated from the Mostin site (CA-LAK-380/1) by professional staff of Sonoma State University and Cabrillo College in response to an eroding creek bank. No known individuals were identified. The 58 associated funerary objects include perforated stone tablets, bone tools, obsidian and chert projectile points, groundstone, and various bone and lithic debitage.

In 1974, human remains representing a minimum of 20 individuals were removed from the Mostin site (CA-LAK-380/1) during unauthorized excavations and donated to the ACF by Don Branscomb, an amateur archeologist. No known individuals were identified. No associated funerary objects are present.

Based on obsidian hydration data and diagnostic material culture, the Mostin site has been identified as a habitation site occupied between 4000-1000 B.C.

In 1974, human remains representing a minimum of one individual were recovered from site CA-LAK-384 during a surface collection conducted by John Parker. No known individual was identified. No associated funerary objects are present.

Based on archeological records, this individual has been identified as Native American from the pre-contact period.

In 1975, human remains representing a minimum of nine individuals were recovered from the Cole Creek site (CA-LAK-425) during salvage excavations conducted by Ron King and Dr. David A. Fredrickson when road construction exposed human remains within Clear Lake State Park. No known individuals were identified. The one associated funerary object is a pestle.

Based on artifact analysis, the Cole Creek site has been identified as a Native American habitation site occupied between 3000 B.C.-A.D. 500.

In 1981, human remains representing a minimum of two individuals were recovered from the Creager site (CA-LAK-510) during an auguring test by Lowell Damon of the ASC for the Pacific Telephone Company. No known individuals were identified. No associated funerary objects are present.

In 1982, human remains representing a minimum of six individuals were recovered from the Creager site (CA-LAK-510) during a field school conducted by James A. Bennyhoff of Sonoma State University. No known individuals were identified. No associated funerary objects are present.

In 1982, human remains representing a minimum of one individual were recovered from the Creager site (CA-LAK-510) during a field school excavation sponsored by the Santa Rosa Junior College. No known individual was identified. No associated funerary objects are present.

In 1986, human remains representing a minimum of five individuals were recovered from the Creager site (CA-LAK-510) by the ASC during mitigation for a sewer line that borders the site. No known individuals were identified. The 814 associated funerary objects include projectile points, shell beads, historic-era nails, buttons, and other clothing fasteners.

Based on artifact analysis, the Creager site has been identified as a habitation site occupied between 10000 B.C.-A.D.1900. No carbon dates have been taken from this site, and therefore the estimated age of these human remains is unknown. Based on the associated funerary objects from the 1986 excavations, an historic date for these burials is most likely.

In 1974, human remains representing a minimum of one individual were recovered from the Mud Flat site (CA-LAK-528) during unauthorized excavations and donated to the ACF by Don Branscomb, an amateur archeologist. No known individual was identified. No associated funerary objects are present.

Based on archeological records, these human remains have been dated to pre-contact times. Based on surface evidence, the Mud Flat site has been identified as a habitation site occupied during pre-contact times.

In 1974, human remains representing a minimum of one individual were recovered from site CA-LAK-679 during unauthorized excavations and donated to ACF by Don Branscomb, an amateur archeologist. No known individual was identified. No associated funerary objects are present.

Based on archeological records, these human remains have been dated to pre-contact times.

In 1974, human remains representing a minimum of two individuals were recovered from an unknown site in the Upper Lake area of Lake County, CA during unauthorized excavations and donated to ACF by Don Branscomb, an amateur archeologist. No known individuals were identified. No associated funerary objects are present.

Based on excavation notes, these individuals have been identified as Native American from the pre-contact period.

Based on the above-mentioned information, officials of the Anthropological Studies Center, Sonoma State University have determined that, pursuant to 43 CFR 10.2 (d)(1), the human remains listed above represent the physical remains of a minimum of 113 individuals of Native American ancestry. Officials of the Anthropological Studies Center, Sonoma State University also have determined that, pursuant to 43 CFR 10.2 (d)(2), the 873 objects listed above are reasonably believed to have been placed with or near individual human remains at the time of death or later as part of the death rite or ceremony. Lastly, officials of the Anthropological Studies Center, Sonoma State University have determined that, pursuant to 43 CFR 10.2 (e), there is a relationship of shared group identity that can be reasonably traced between these Native American human remains and associated funerary objects and the Elem Indian Colony of Pomo Indians of the Sulphur Bank Rancheria, California; the Middletown Rancheria of Pomo Indians of California; and the Scotts Valley Band of Pomo Indians of California. This notice has been sent to officials of the Elem Indian Colony of Pomo Indians of the Sulphur Bank Rancheria, California; the Middletown Rancheria of Pomo Indians of California; and the Scotts Valley Band of Pomo Indians of California. Representatives of any other Indian tribe that believes itself to be culturally affiliated with these human remains and associated funerary objects should contact Sarah E. Blanchfield, NAGPRA Project Manager, Anthropological Studies Center, Archaeological Collections Facility, Sonoma State University, Rohnert Park, CA 95472, telephone (707) 664-2381, before September 15, 2000. Repatriation of the human remains and associated funerary objects to the Elem Indian Colony of Pomo Indians of the Sulphur Bank Rancheria, California; the Middletown Rancheria of Pomo Indians of California; and the Scotts Valley Band of Pomo Indians of California may begin after that date if no additional claimants come forward.

Dated: August 9, 2000.
John Robbins,
Assistant Director, Cultural Resources Stewardship and Partnerships.

[FR Doc. 00-20824 Filed 8-15-00; 8:45 am]

BILLING CODE 4310-70-F